DEPARTMENT OF TRANSPORTATION

Pipeline and Hazardous Materials Safety Administration

49 CFR Parts 105, 107, and 171

[Docket No. PHMSA-2012-0260 (HM-233E)]

RIN 2137-AE99

Hazardous Materials: Special Permit and Approvals Standard Operating Procedures and Evaluation Process

AGENCY: Pipeline and Hazardous Materials Safety Administration (PHMSA), DOT.

ACTION: Proposed rule; correction.

SUMMARY: PHMSA is correcting language it issued in a notice of proposed rulemaking under this Docket on August 12, 2014, that proposes to include the standard operating procedures and criteria used to evaluate applications for special permits and approvals under the Hazardous Materials Regulations. The NPRM addresses certain matters identified in the Hazardous Materials Transportation Safety Act of 2012 related to these procedures as they are executed by PHMSA's Office of Hazardous Materials Safety's Approvals and Permits Division. This correction adds language to clarify that special permit and approval applications that undergo review by an Operating Administration (OA) will complete this review before they undergo an automated review. This proposed correction also clarifies that an OA review, depending on its completeness, may negate the need for the automated review.

DATES: The proposed rule published August 12, 2014 (79 FR 47047), is corrected as of September 12, 2014.

FOR FURTHER INFORMATION CONTACT: Donald Burger, Office of Hazardous Materials Safety, Approvals and Permits Division, (202) 366-4535 or Eileen Edmonson, Office of Hazardous Materials Safety, Standards and Rulemaking Division, (202) 366-8553, Pipeline and Hazardous Materials Safety Administration (PHMSA), 1200 New Jersey Avenue SE., Washington, DC 20590.

SUPPLEMENTARY INFORMATION: In proposed rule FR Doc. 2014-18925, 79 FR 47047, beginning on page 47047 in the issue of August 12, 2014, make the following corrections:

1. On page 47062 in the 3rd column revise the first sentence of paragraph 3(b)(i), entitled “Automated Review,” to read as follows:

“(i) Automated review. An applicant for a special permit or approval which requires a fitness evaluation, but does not include coordination with an OA, is subject to an automated fitness review.”

2. On page 47063 in the 1st column, revise the first sentence of paragraph 3(b)(ii), entitled `Safety profile review,” to read as follows:

“(ii) Safety profile review. A fitness coordinator, as defined in § 107.1, conducts a safety profile review of all applicants meeting one of the criteria listed earlier in this appendix under “automated review,” and all applicants whose fitness reviews are subject to coordination with an OA, as described in introductory paragraph 3(b) of this appendix.”

William S. Schoonover,
Deputy Associate Administrator, Pipeline and Hazardous Materials Safety Administration.

[FR Doc. 2014-21776 Filed 9-11-14; 8:45 am]

BILLING CODE 4910-60-P